DEPARTMENT OF COMMERCE

International Trade Administration

[A-570-038]

Certain Amorphous Silica Fabric From the People's Republic of China: Antidumping Duty Order

AGENCY: Enforcement and Compliance, International Trade Administration, Department of Commerce.

SUMMARY: Based on affirmative final determinations by the Department of Commerce (the Department) and the International Trade Commission (ITC), the Department is issuing an antidumping duty order on certain amorphous silica fabric from the People's Republic of China (PRC).

DATES: Effective March 17, 2017.

FOR FURTHER INFORMATION CONTACT: Scott Hoefke or Fred Baker, AD/CVD Operations, Office VI, Enforcement and Compliance, International Trade Administration, U.S. Department of Commerce, 1401 Constitution Avenue NW., Washington, DC 20230; telephone (202) 482-4947 or (202) 482-2924, respectively.

SUPPLEMENTARY INFORMATION:

Background

In accordance with sections 735(d) and 777(i)(1) of the Tariff Act of 1930, as amended (the Act), and 19 CFR 351.210(c), on January 25, 2017, the Department published the final determination of sales at less than fair value in the antidumping duty investigation of certain amorphous silica fabric from the PRC.¹ On March 10, 2017, the ITC notified the Department of its final determination pursuant to section 735(b)(1)(A)(i) of the Act, that an industry in the United States is materially injured within the meaning of section 735(b)(1)(A)(i) of the Act by reason of imports of certain amorphous silica fabric from the PRC.² In addition, in its final determination, the ITC did not make an affirmative critical circumstances finding with respect to imports of subject merchandise from the PRC that are subject to the Department's final affirmative critical circumstances finding.³

¹ See Antidumping Duty Investigation of Certain Amorphous Silica Fabric From the People's Republic of China: Final Affirmative Determination of Sales at Less-Than-Fair Value, and Final Affirmative Determination of Critical Circumstances, 82 FR 8399 (January 25, 2017) (Final Determination), and accompanying Issues and Decision Memorandum.

² See Letter to Ronald Lorentzen, Acting Assistant Secretary of Commerce for Enforcement and Compliance, from Rhonda K Schmidtlein, Chairman of the U.S. International Trade Commission, regarding certain amorphous silica fabric from China (March 10, 2017) (ITC Letter).

³ Id.

Scope of the Order

The product covered by this order is woven (whether from yarns or rovings) industrial grade amorphous silica fabric, which contains a minimum of 90 percent silica (SiO2) by nominal weight, and a nominal width in excess of 8 inches. The order covers industrial grade amorphous silica fabric regardless of other materials contained in the fabric, regardless of whether in roll form or cut-to-length, regardless of weight, width (except as noted above), or length. The order covers industrial grade amorphous silica fabric regardless of whether the product is approved by a standards testing body (such as being Factory Mutual (FM) Approved), or regardless of whether it meets any governmental specification.

Industrial grade amorphous silica fabric may be produced in various colors. The order covers industrial grade amorphous silica fabric regardless of whether the fabric is colored. Industrial grade amorphous silica fabric may be coated or treated with materials that include, but are not limited to, oils, vermiculite, acrylic latex compound, silicone, aluminized polyester (Mylar®) film, pressure-sensitive adhesive, or other coatings and treatments. The order covers industrial grade amorphous silica fabric regardless of whether the fabric is coated or treated, and regardless of coating or treatment weight as a percentage of total product weight. Industrial grade amorphous silica fabric may be heat-cleaned. The order covers industrial grade amorphous silica fabric regardless of whether the fabric is heat-cleaned.

Industrial grade amorphous silica fabric may be imported in rolls or may be cut-to-length and then further fabricated to make welding curtains, welding blankets, welding pads, fire blankets, fire pads, or fire screens. Regardless of the name, all industrial grade amorphous silica fabric that has been further cut-to-length or cut-to-width or further finished by finishing the edges and/or adding grommets, is included within the scope of this order.

Subject merchandise also includes (1) any industrial grade amorphous silica fabric that has been converted into industrial grade amorphous silica fabric in China from fiberglass cloth produced in a third country; and (2) any industrial grade amorphous silica fabric that has been further processed in a third country prior to export to the United States, including but not limited to treating, coating, slitting, cutting to length, cutting to width, finishing the edges, adding grommets, or any other processing that would not otherwise remove the merchandise from the scope of the order if performed in the country of manufacture of the in-scope industrial grade amorphous silica fabric.

Excluded from the scope of the order is amorphous silica fabric that is subjected to controlled shrinkage, which is also called “pre-shrunk” or “aerospace grade” amorphous silica fabric. In order to be excluded as a pre-shrunk or aerospace grade amorphous silica fabric, the amorphous silica fabric must meet the following exclusion criteria: (l) The amorphous silica fabric must contain a minimum of 98 percent silica (SiO2) by nominal weight; (2) the amorphous silica fabric must have an areal shrinkage of 4 percent or less; (3) the amorphous silica fabric must contain no coatings or treatments; and (4) the amorphous silica fabric must be white in color. For purposes of this scope, “areal shrinkage” refers to the extent to which a specimen of amorphous silica fabric shrinks while subjected to heating at 1800 degrees F for 30 minutes.⁴

⁴ Areal shrinkage is expressed as the following percentage:

((Fired Area, cm2 − Initial Area, cm2)/Initial Area, cm2) × 100 = Areal Shrinkage, %

Also excluded from the scope are amorphous silica fabric rope and tubing (or sleeving). Amorphous silica fabric rope is a knitted or braided product made from amorphous silica yarns. Silica tubing (or sleeving) is braided into a hollow sleeve from amorphous silica yarns.

The subject imports are normally classified in subheadings 7019.59.4021, 7019.59.4096, 7019.59.9021, and 7019.59.9096 of the Harmonized Tariff Schedule of the United States (HTSUS), but may also enter under HTSUS subheadings 7019.40.4030, 7019.40.4060, 7019.40.9030, 7019.40.9060, 7019.51.9010, 7019.51.9090, 7019.52.9010, 7019.52.9021, 7019.52.9096 and 7019.90.1000. HTSUS subheadings are provided for convenience and customs purposes only; the written description of the scope of this order is dispositive.

Antidumping Duty Order

In accordance with sections 735(b)(1)(A)(i) and 735(d) of the Act, the ITC has notified the Department of its final determination in this investigation, in which it found that imports of certain amorphous silica fabric from the PRC are materially injuring a U.S. industry.⁵ Therefore, in accordance with section 735(c)(2) of the Act, we are publishing this antidumping duty order. Because the ITC determined that imports of certain amorphous silica fabric from the PRC are materially injuring a U.S. industry, unliquidated entries of such merchandise from the PRC, entered or withdrawn from warehouse for consumption, are subject to the assessment of antidumping duties.

⁵ See ITC Letter.

As a result of the ITC's final determination, in accordance with section 736(a)(1) of the Act, the Department will direct U.S. Customs and Border Protection (CBP) to assess, upon further instruction by the Department, antidumping duties equal to the amount by which the normal value of the merchandise exceeds the export price (or constructed export price) of the merchandise, for all relevant entries of certain amorphous silica fabric from the PRC. These antidumping duties will be assessed on unliquidated entries from the PRC entered, or withdrawn from warehouse, for consumption on or after September 1, 2016, the date on which the Department published the Preliminary Determination,⁶ but will not include entries occurring after the expiration of the provisional measures period and before publication of the ITC's final injury determination, as further described below.

⁶ See Antidumping Duty Investigation of Certain Amorphous Silica Fabric from the People's Republic of China: Affirmative Preliminary Determination of Sales at Less-Than-Fair Value, Preliminary Affirmative Determination of Critical Circumstances, and Postponement of Final Determination, 81 FR 60341 (September 1, 2016) (Preliminary Determination).

Continuation of Suspension of Liquidation

In accordance with section 735(c)(1)(B) of the Act, we will instruct CBP to continue to suspend liquidation on all relevant entries of subject merchandise from the PRC. These instructions suspending liquidation will remain in effect until further notice.

We will also instruct CBP to require cash deposits at rates equal to the estimated weighted-average dumping margins indicated in the chart below, adjusted where appropriate for export subsidies and estimated domestic subsidy pass-through.⁷ Accordingly, effective on the date of publication of the ITC's final affirmative injury determination, CBP will require, at the same time as importers would normally deposit estimated duties on this subject merchandise, a cash deposit at the rates listed below.⁸ The rate for the PRC-wide entity applies to all producers or exporters not specifically listed. For the purpose of determining cash deposit rates, the estimated weighted-average dumping margins for imports of subject merchandise from the PRC will be adjusted, as appropriate, for export subsidies found in the final determination of the companion countervailing duty investigation of this merchandise imported from the PRC.⁹

⁷ No party in the less-than-fair-value investigation established eligibility for an adjustment for estimated domestic subsidy pass-through. See Preliminary Determination, unchanged in Final Determination.

⁸ See section 736(a)(3) of the Act.

⁹ See Final Determination.

Provisional Measures

Section 733(d) of the Act states that instructions issued pursuant to an affirmative preliminary determination may not remain in effect for more than four months, except where exporters representing a significant proportion of exports of the subject merchandise request the Department to extend that four-month period to no more than six months. At the request of exporters that account for a significant portion of certain amorphous silica fabric from the PRC, the Department extended the four-month period to six months. In the underlying investigation, the Department published the Preliminary Determination on September 1, 2016.¹⁰ Therefore, the six-month period beginning on the date of the publication of the Preliminary Determination ended on February 27, 2017. Furthermore, section 737(b) of the Act states that definitive duties are to begin on the date of publication of the ITC's final injury determination. Therefore, in accordance with section 733(d) of the Act and our practice, we will instruct CBP to terminate the suspension of liquidation and to liquidate, without regard to antidumping duties, unliquidated entries of certain amorphous silica fabric from the PRC entered, or withdrawn from warehouse, for consumption after February 27, 2017, the date the provisional measures expired, and through the day preceding the date of publication of the ITC's final injury determination in the Federal Register.

¹⁰ See Preliminary Determination.

Estimated Weighted-Average Dumping Margin

The weighted-average antidumping duty margin percentages and cash deposit percentages are as follows:

Exporter | Producer | Weighted- average dumping margin (percent) | Cash deposit (percent)
ACIT (Pinghu) Inc | ACIT (Pinghu) Inc | 162.47 | 151.93
Nanjing Tianyuan Fiberglass Material Co., Ltd | Nanjing Tianyuan Fiberglass Material Co., Ltd | 162.47 | 151.71
PRC-Wide Entity | 162.47 | 151.93

Critical Circumstances

In its final determination, the ITC did not make an affirmative critical circumstances finding with respect to imports of subject merchandise from the PRC that were subject to the Department's final affirmative critical circumstances determination. Accordingly, the Department will instruct CBP to lift suspension and to refund any cash deposit made to secure the payment of estimated antidumping duties with respect to entries of the merchandise entered, or withdrawn from warehouse, for consumption on or after June 3, 2016 (i.e., 90 days prior to the date of publication of the preliminary determination), but before September 1, 2016, the publication date of the Preliminary Determination.

Notification to Interested Parties

This notice constitutes the antidumping duty order with respect to certain amorphous silica fabric from the PRC pursuant to section 736(a) of the Act. Interested parties can find a list of antidumping duty orders currently in effect at http://www.trade.gov/enforcement/.

This order is published in accordance with section 736(a) of the Act and 19 CFR 351.211(b).

Dated: March 14, 2017.
Ronald K. Lorentzen,
Acting Assistant Secretary for Enforcement and Compliance.

[FR Doc. 2017-05431 Filed 3-16-17; 8:45 am]

BILLING CODE 3510-DS-P